DEPARTMENT OF HEALTH AND HUMAN SERVICES

42 CFR Part 36

Meeting of the Negotiated Rulemaking Committee on Joint Tribal and Federal Self-Governance

AGENCY: Indian Health Service, HHS.

ACTION: Notice of meeting.

SUMMARY: The Secretary of Health and Human Services has established a Negotiated Rulemaking Committee on Joint Tribal and Federal Self-Governance (Committee) to negotiated and develop a proposed rule implementing the Tribal Self-Governance Amendments of 2000, Public Law 106-260 (the Act). It is our intent to publish the proposed rule for notice and comment no later than one year after the date of enactment of the Act (August 18, 2000 + one year), as required by section 517(a)(2) of the Act.

DATES: The Committee will have its first two meetings as shown below:

1. February 27-28, 2001, 8:30 a.m.-5 p.m., Washington, DC.

2. March 15-16, 2001, 8:30 a.m.-5 p.m., San Diego, CA.

ADDRESSES: The meeting locations are:

1. Washington, DC—Sheraton Four Points Hotel, 1201 K Street, NW., Washington, DC 20005.

2. San Diego, CA—Clarion Hotel Bay View, 660 K Street, San Diego, CA 92101.

Written statements may be submitted to Paula Williams Director, Office of Tribal Self-Governance, Indian Health Service, 5600 Fishers Lane, Room 5A-55, Rockville, MD 20857.

FOR FURTHER INFORMATION CONTACT: Paula Williams, Director, Office of Tribal Self-Governance, Indian Health Services, 5600 Fishers Lane, Room 5A-55, Rockville, MD 20857, Telephone 301-443-7821. (This is not a toll-free number.)

SUPPLEMENTARY INFORMATION: The location and dates of future meetings will be published in the Federal Register. The meetings will be open to the public without advance registration. Public attendance may be limited to the space available. Members of the public may make statements during the meeting to the extent time permits can file written statements with the Committee for its consideration. Written statements should be submitted to the address listed above. Summaries of Committee meetings will be available for public inspection and copying ten days following each meeting at the same address. In accordance with 41 CFR 101-6.1015(b)(2), we note that this notice may be published less than 15 days prior to the first meeting because of delay in formal appointment of committee members due to temporary hiring freeze.

Dated: February 7, 2001.
Michael H. Trujillo,
Assistant Surgeon General, Director.

[FR Doc. 01-3569 Filed 2-12-01; 12:25 am]

BILLING CODE 4160-16-M